DEPARTMENT OF AGRICULTURE

Food and Nutrition Service

7 CFR Part 250

RIN 0584-AE38

Revisions and Clarifications in Requirements for the Processing of Donated Foods; Extension of Comment Period

AGENCY: Food and Nutrition Service (FNS), USDA.

ACTION: Proposed rule; extension of comment period.

SUMMARY: The Food and Nutrition Service (FNS) is extending the comment period for this proposed rule. This rule proposes to revise and clarify requirements for the processing of donated foods in order to: Incorporate successful processing options tested in demonstration projects, ensure accountability for donated foods provided for processing, and increase program efficiency. The rule would require multi-State processors to enter into National Processing Agreements to process donated foods into end products, permit processors to substitute commercially purchased beef and pork of U.S. origin and of equal or better quality for donated beef and pork, and would increase oversight of inventories of donated foods at processors. The rule also revises regulatory provisions in plain language, to make them easier to read and understand.

DATES: The comment period for the proposed rule published in the Federal Register of January 5, 2017 (82 FR 1231), has been extended from March 6, 2017, to April 5, 2017. To be assured of consideration, comments must be received on or before April 5, 2017.

ADDRESSES: The Food and Nutrition Service invites interested persons to submit comments on this proposed rule. You may submit comments, identified by RIN number 0584-AE38, by any of the following methods:

Federal eRulemaking Portal: Go to http://www.regulations.gov. Follow the online instructions for submitting comments.

Email: Send comments to ProcessingRuleComments@fns.usda.gov. Include RIN number 0584-AE38 in the subject line of the message.

Mail: Send comments to Kiley Larson, Program Analyst, Policy Branch, Food Distribution Division, Food and Nutrition Service, U.S. Department of Agriculture, Room 500, 3101 Park Center Drive, Alexandria, Virginia 22302-1594.

Hand Delivery or Courier: Deliver comments to the above address.

FOR FURTHER INFORMATION CONTACT: Kiley Larson or Erica Antonson at the above address or telephone (703) 305-2680.

SUPPLEMENTARY INFORMATION: The Food and Nutrition Service is extending by 30 days the public comment period for this proposed rule, which was published on January 5, 2017.

To the extent that 5 U.S.C. 553(b)(A) applies to this action, it is exempt from notice and comment rulemaking for good cause and for reasons cited above, the Food and Nutrition Service finds that notice and solicitation of comment regarding the brief extension of the comment period of the rule is impracticable, unnecessary, or contrary to the public interest pursuant to 5 U.S.C. 553(b)(B).

The Food and Nutrition Service believes that affected parties need to be informed as soon as possible of the extension and its length.

Dated: February 16, 2017.
Jessica Shahin,
Acting Administrator, Food and Nutrition Service.

[FR Doc. 2017-03560 Filed 2-24-17; 8:45 am]

BILLING CODE 3410-30-P